DEPARTMENT OF COMMERCE

International Trade Administration

[A-549-839]

Steel Propane Cylinders From Thailand: Final Results of Antidumping Duty Administrative Review; 2018-2020

AGENCY: Enforcement and Compliance, International Trade Administration, Department of Commerce.

SUMMARY: The Department of Commerce (Commerce) determines that Sahamitr Pressure Container Plc. (also known as Sahamitr Pressure Container Public Company Limited) made sales of subject merchandise at less than normal value during the period of review (POR), December 27, 2018, through July 31, 2020.

DATES: Applicable March 7, 2022.

FOR FURTHER INFORMATION CONTACT: Jolanta Lawska, AD/CVD Operations, Office III, Enforcement and Compliance, International Trade Administration, U.S. Department of Commerce, 1401 Constitution Avenue NW, Washington, DC 20230; telephone: (202) 482-8362.

SUPPLEMENTARY INFORMATION:

Background

On September 2, 2021, Commerce published the Preliminary Results ¹ and invited interested parties to comment on the Preliminary Results. On December 14, 2021, Commerce extended the deadline for the final results to March 1, 2022.² For a summary of events that occurred since the Preliminary Results, see the Issues and Decision Memorandum.³ Commerce conducted this review in accordance with section 751 of the Tariff Act of 1930, as amended (the Act).

¹ See Steel Propane Cylinders from Thailand: Preliminary Results of Antidumping Duty Administrative Review; 2018-2020, 86 FR 49295 (September 2, 2021) (Preliminary Results), and accompanying Preliminary Decision Memorandum.

² See Memorandum, “Steel Propane Cylinders from Thailand: Extension of Time Limit for Final Results of Antidumping Duty administrative Review; 2018/2020,” dated December 14, 2021.

³ See Memorandum, “Issues and Decision Memorandum for the Final Results of the Antidumping Duty Administrative Review of Steel Propane Cylinders from Thailand; 2018-2020,” dated concurrently with, and hereby adopted by, this notice (Issues and Decision Memorandum).

Scope of the Order ⁴

⁴ See Steel Propane Cylinders from the People's Republic of China and Thailand: Amended Final Determination of Sales at Less Than Fair Value and Antidumping Duty Orders, 84 FR 41703 (August 15, 2019) (Order).

The merchandise covered by the Order is steel propane cylinders from Thailand. For a complete description of the scope of the Order, see the Issues and Decision Memorandum.⁵

⁵ See Issues and Decision Memorandum at “Scope of the Order.”

Analysis of Comments Received

All issues raised in the case and rebuttal briefs are addressed in the Issues and Decision Memorandum. A list of the issues that parties raised and to which we responded in the Issues and Decision Memorandum is attached to this notice as an Appendix. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Final Results of the Review

Commerce determines that the following weighted-average dumping margin exists for the period December 27, 2018, through July 31, 2020:

Exporter/producer | Weighted- average dumping margin (percent)
Sahamitr Pressure Container Plc | 13.89

Disclosure

We intend to disclose the calculations performed to parties in this proceeding within five days after publication of these final results in the Federal Register, in accordance with section 751(a) of the Act and 19 CFR 351.224(b).

Assessment Rates

Pursuant to section 751(a)(2)(C) of the Act and 19 CFR 351.212(b)(1), Commerce will determine, and U.S. Customs and Border Protection (CBP) shall assess, antidumping duties on all appropriate entries of subject merchandise in accordance with the final results of this review. We will calculate importer-specific assessment rates on the basis of the ratio of the total amount of dumping calculated for each importer's examined sales and the total entered value of the importer's sales in accordance with 19 CFR 351.212(b)(1).

Where the respondent's weighted-average dumping margin is either zero or de minimis within the meaning of 19 CFR 351.106(c)(1), or an importer-specific assessment rate is zero or de minimis, we will instruct CBP to liquidate the appropriate entries without regard to antidumping duties.

Commerce's “automatic assessment” practice will apply to entries of subject merchandise during the POR produced by companies included in these final results of review for which the reviewed companies did not know that the merchandise they sold to the intermediary (e.g., a reseller, trading company, or exporter) was destined for the United States. In such instances, we will instruct CBP to liquidate unreviewed entries at the all-others rate if there is no rate for the intermediate company(ies) involved in the transaction.⁶

⁶ See Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements for estimated antidumping duties will be effective for all shipments of subject merchandise entered, or withdrawn from warehouse, for consumption on or after the publication date of the final results of this administrative review, as provided by section 751(a)(2)(C) of the Act: (1) The cash deposit rate for Sahamitr Pressure Container Plc. will be equal to its weighted-average dumping margin established in the final results of this administrative review (except if that rate is de minimis, in which situation the cash deposit rate will be zero); (2) for merchandise exported by a producer or exporter not covered in this review but covered in a prior completed segment of the proceeding, the cash deposit rate will continue to be the company-specific rate published for the most recent period; (3) if the exporter is not a firm covered in this review, a prior review, or the original investigation but the producer has been covered in a prior complete segment of this proceeding, the cash deposit rate will be the company-specific rate established for the most recent period for the producer of the merchandise; (4) the cash deposit rate for all other producers or exporters will continue to be 10.77 percent,⁷ the all-others rate established in the less-than-fair-value investigation. These cash deposit requirements, when imposed, shall remain in effect until further notice.

⁷ See Order, 84 FR at 41704.

Notification to Importers Regarding the Reimbursement of Duties

This notice also serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification Regarding Administrative Protective Order

This notice also serves as a reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation.

Notification to Interested Parties

We are issuing and publishing these final results of administrative review in accordance with sections 751(a)(1) and 777(i) of the Act, and 19 CFR 351.221(b)(5).

Dated: March 1, 2022.
Lisa W. Wang,
Assistant Secretary for Enforcement and Compliance.

Appendix—List of Topics Discussed in the Final Decision Memorandum

I. Summary

II. Background

III. Scope of the Order

IV. Changes Since the Preliminary Results

V. Discussion of the Issues

Comment 1: Whether Commerce Should “Cap” Sahamitir Pressure Container Public Company Limited's (SMPC) Reported Freight Revenue at the Amount of Actual Freight Expenses SMPC Incurred

Comment 2: Whether Commerce Made a Ministerial Error Regarding Treatment of SMPC's Bank Charges

Comment 3: Whether Commerce Should Use SMPC's Month-Specific Certification Expenses in the Final Results

Comment 4: Whether Commerce Should Reverse the Adjustment Made to SMPC's Reported Scrap Offset in the Final Results

VI. Recommendation

[FR Doc. 2022-04756 Filed 3-4-22; 8:45 am]

BILLING CODE 3510-DS-P